DEPARTMENT OF HOUSING AND URBAN DEVELOPMENT

24 CFR Parts 3280, 3282, and 3285

[Docket No. FR-6149-P-01]

RIN 2502-AJ49

Manufactured Home Construction and Safety Standards

AGENCY: Office of the Assistant Secretary for Housing-Federal Housing Commissioner, HUD.

ACTION: Proposed rule.

SUMMARY: This proposed rule would amend the Federal Manufactured Home Construction and Safety Standards (the Construction and Safety Standards) by adopting recommendations made to HUD by the Manufactured Housing Consensus Committee (MHCC). The National Manufactured Housing Construction and Safety Standards Act of 1974 (the Act) requires HUD to publish in the Federal Register any proposed revised Construction and Safety Standard submitted by the MHCC. The MHCC has prepared and submitted to HUD its third group of recommendations to improve various aspects of the Construction and Safety Standards. HUD has reviewed those proposals and has made editorial revisions to several and HUD proposes correlating additions for several of the proposals. HUD has decided not to go forward in this proposed rule with certain revisions recommended by the MHCC due to pending regulations for improving energy efficiency in manufactured homes currently being prepared by the Department of Energy. In addition, HUD has decided not to move forward with a new proposal to add requirements for draftstopping to the Manufactured Home Construction and Safety Standards.

As agreed, these recommendations are being published to provide notice of the proposed revisions and an opportunity for public comment.

DATES: Comment Due Date: March 31, 2020.

ADDRESSES: Interested persons are invited to submit comments responsive to this proposed rule to the Office of General Counsel, Regulations Division, U.S. Department of Housing and Urban Development, 451 7th Street SW, Room 10276, Washington, DC 20410-0001. All submissions should refer to the above docket number and title. Submission of public comments may be carried out by hard copy or electronic submission.

1. Submission of Hard Copy Comments. Comments may be submitted by mail or hand delivery. Each commenter submitting hard copy comments, by mail or hand delivery, should submit comments to the above address to the attention of the Regulations Division. Due to security measures at all Federal agencies, submission of comments by mail often results in delayed delivery. To ensure timely receipt of comments, HUD recommends that any comments submitted by mail be submitted at least 2 weeks in advance of the public comment deadline. All hard copy comments received by mail or hand delivery are a part of the public record and will be posted to http://www.regulations.gov without change.

2. Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make comments immediately available to the public. Comments submitted electronically through the http://www.regulations.gov website can be viewed by other commenters and interested members of the public. Commenters should follow instructions provided on that site to submit comments electronically.

No Facsimile Comments. Facsimile (fax) comments are not acceptable.

Public Inspection of Comments. All comments submitted to HUD regarding this rule will be available, without charge, for public inspection and copying between 8 a.m. and 5 p.m. weekdays, at the above address. Due to security measures at the HUD Headquarters building, an advance appointment to review the public comments must be scheduled by calling the Regulations Division at 202-708-3055 (this is not a toll-free number). Individuals with speech or hearing impairments may access this number through TTY by calling the Federal Relay Service at 800-877-8339 (this is a toll-free number). Copies of all comments submitted are available for inspection and downloading at http://www.regulations.gov.

FOR FURTHER INFORMATION CONTACT: Teresa B. Payne, Administrator, Office of Manufactured Housing Programs, Office of Housing, U.S. Department of Housing and Urban Development, 451 7th Street SW, Washington DC 20410; telephone 202-402-5365 (this is not a toll-free number). Persons with hearing or speech impairments may access this number via TTY by calling the toll-free Federal Relay Service at 800-877-8389.

SUPPLEMENTARY INFORMATION:

I. Background

The National Manufactured Housing Construction and Safety Standards Act of 1974 (42 U.S.C. 5401-5426) (the Act) authorizes HUD to establish the Federal Manufactured Home Construction and Safety Standards (the Construction and Safety Standards) codified in 24 CFR part 3280. The Act was amended in 2000 by the Manufactured Housing Improvement Act of 2000 (Pub. L. 106-569, approved December 27, 2000) which, among other things establishes the Manufactured Housing Consensus Committee (MHCC), a consensus committee responsible for providing HUD recommendations to adopt, revise and interpret the Construction and Safety Standards. HUD's Construction and Safety Standards only apply to the design, construction and installation of new homes. Changes to the collective standards are not retroactively enforced by HUD as applicable to previously designed, built and installed homes.

This rulemaking is based primarily on the third set of recommendations adopted by the MHCC to revise the Construction and Safety Standards. It also includes a recent MHCC proposal to revise the Construction and Safety Standards to reduce the regulatory burden by eliminating the need for manufacturers to obtain special approvals from HUD for certain construction features and options. HUD has reviewed those proposals and has made editorial revisions. HUD is also adding related proposals that complement the MHCC's recommendations.

HUD has decided not to include in this proposed rule certain MHCC recommendations due to pending regulations for improving energy efficiency in manufactured homes being prepared by the U.S. Department of Energy (DOE) under the Energy Independence and Security Act (Pub. L. 110-140, approved December 19, 2007) (EISA). DOE published a Notice of Proposed Rulemaking on June 17, 2016 (81 FR 39756) and more recently, a Notice of Data Availability, Request for Information on August 3, 2018 (83 FR 38073) regarding energy conservation standards for manufactured housing. Given this DOE rulemaking, HUD has decided to postpone action on MHCC-proposed revision to §§ 3280.502 and 3280.506(b), except for a provision that would be applicable at § 3280.506(b) for the mating wall of attached manufactured homes—an option that is needed to avoid a more burdensome alternative approval process (24 CFR 3282.14—Alternative construction of manufactured homes). HUD has also decided not to include a recommendation on hallway width, as this issue was re-opened by the MHCC and more recent MHCC recommendations have been received by HUD and will be addressed through future rulemaking. Finally, HUD decided not to move forward with a new proposal to add requirements for draftstopping to the Manufactured Home Construction and Safety Standards. The MHCC's proposed draftstopping provision and HUD's reasons for returning it to the MHCC for additional consideration are provided later in this preamble.

II. General Update of the Standards

A. General

HUD proposes to add a definition in § 3282.2 for “attached accessory building or structure,” a term and definition recommended by the MHCC to address features including, but not limited to, attached garages and attached carports. HUD also proposes to amend § 3280.3 by clarifying the requirement that consumer manuals be in accordance with § 3282.207, in addition to general references to 24 CFR parts 3280 and 3282. Through this proposed rulemaking, HUD would also amend § 3280.11(d) by clarifying the location requirement of the certification label to each transportable section of a manufactured home. Specifically, the label must be installed on a permanent part of the exterior of the manufactured home section in a visible location as specified in the approved design. This provides for locating the certification label on transportable sections of multi-story homes that require that the label be located in an area that would cause it to remain visible after all work is completed in finishing the home at the home site.

Finally, HUD proposes to revise § 3280.5 by adding a new paragraph (d) requiring that a statement be added to the Data Plate of a manufactured home identifying whether or not the home has been designed to accommodate an add-on or attached accessory building or structure (see proposed standards §§ 3280.212 and 3280.213). The MHCC considered and recommended that a statement be added to the Data Plate but did not provide the specific language to be included. Therefore, HUD has developed proposed language for the Data Plate in order to move forward with the MHCC's correlating recommendations for addressing attached accessory buildings and structures.

B. Planning Considerations

HUD proposes amending § 3280.103 by removing the upper limit of 90 cubic feet per meter (cfm) in paragraph (b). This change would eliminate the need for manufacturers to obtain an alternative construction (AC) approval in order to manufacture homes that exceed 2,571 square feet, the maximum square footage that would otherwise be permitted with a 90 cfm fan. The proposed rule would also add new paragraph (d) to allow for design and construction flexibility. Specifically, HUD proposes to revise § 3280.103(d) by providing that, as an option to complying with § 3280.103(b) and (c), the manufactured home meet the requirement for whole house ventilation and additional ventilation by complying with the ASHRAE 62.2 Standard, Ventilation and Acceptable Indoor Air quality in Low-Rise Residential Buildings—2010 edition. Without this change, manufacturers would be required to request and obtain AC letters in order to design and build homes that would comply with the provisions of the ASHRAE 62.2 standard.

HUD proposes amending § 3280.108 by adding a minimum clear opening requirement to all interior swinging doors. Specifically, this proposed rule would require that all interior swinging doors must have a minimum clear opening of 27 inches, except doors to toilet compartments in single-section homes. The proposed rule would also amend the requirements for toilet compartments in § 3280.111 by adding a requirement that the minimum clear opening width for single and multi-section bathroom passage doors be 23 inches and 27 inches, respectively. These reflect current construction practices for manufactured homes as well as other housing products and accommodates the characteristics of narrower, single-section homes.

HUD proposes amending § 3280.113 by adding a provision for glazed (window) openings that face into a roofed porch. Specifically, HUD is proposing that required glazed openings be permitted to satisfy light and ventilation requirements for habitable rooms if the glazed areas (windows) face into a roofed porch where the porch abuts a street, yard, or court, and the longer side of the porch is at least 65 percent open and unobstructed, and the ceiling height is not less than 7 feet. Adding this provision would make the Construction and Safety Standards consistent with existing state and local building codes, and industry practice for other housing products.

HUD is proposing a new § 3280.114 to define requirements for stairways, landings, handrails, guards and stairway illumination. Without this provision in the federally preemptive Construction and Safety Standards, the inclusion of such features in a manufactured home are subject to the requirements of state or local jurisdictions having authority over the home site, including state and local inspections. By including these requirements in the Construction and Safety Standards, which are consistent with state and local building codes for other housing products and generally used in the design and construction of multi-story manufactured housing, HUD can ensure uniformity in designs and construction and provide cost savings through one uniform standard. Specifically, § 3280.114(a) would define requirements for stairway width, stairway treads and risers, including riser height and tread depth. This paragraph would also define requirements for stairway headroom, winders, spiral stairways, and circular stairways. Paragraph (b) of § 3280.114 would define requirements for stairway landing dimensions and locations of stairway landings. Section 3280.114(c) would define requirements for stairway handrails including requirements for handrail height, continuity graspability and loading. Paragraph (d) of § 3280.114 would define requirements for guards including height and guard separation width for porches, balconies, or raised floor surfaces. Finally, § 3280.114(e) would define requirements for stairway illumination for both interior and exterior stairways.

C. Carbon Monoxide Detectors

HUD proposes to add a new § 3280.211 that would require the installation and designate the location of carbon monoxide detectors. The provision would require Carbon Monoxide alarms in all homes with fuel burning appliances and in all homes designed by the home manufacturer for an attached garage, as well as all homes designed by the home manufacturer to be installed over a basement. These conditions for carbon monoxide alarm installation are each mutually exclusive since the potential for field-installed fuel burning appliances will exist and may impact health and safety of occupants.

Implementing effective carbon monoxide detection and alarms is a HUD priority and promotes important health and safety concerns. While HUD's current Construction and Safety Standards do not require the installation of carbon monoxide detection and alarms, 38 states and numerous local jurisdictions require these detectors in all housing, including manufactured housing. Without a Federal Construction and Safety Standard, manufactured home manufacturers are subject to design and inspection requirements of potentially disparate state and local jurisdictions. The proposed standards for the installation of carbon monoxide detectors in manufactured housing are generally consistent with the majority of existing state and local building codes. By including this requirement in the Construction and Safety Standards, HUD expects to ensure uniformity and provide cost savings through design and construction to one standard implemented across the country for homes having gas burning appliances or designed for an attached garage.

Specifically, § 3280.211(a) would require that carbon monoxide alarms or detectors be installed in accordance with the Standard for the Installation of Carbon Monoxide Detection Equipment, NFPA 720-2015, and be listed and conform to the requirements of Single and Multiple Station Carbon Monoxide Alarms, ANSI/UL 2034-2008 edition. A listed carbon monoxide alarm means that in order to use any given carbon monoxide alarm model, the alarm model must be tested/evaluated and listed by a nationally recognized organization as conforming to the requirements of the ANSI/UL standard—see definition for “listed or certified” at § 3280.2. Section 3280.211(b) would require the home manufacturer to provide a carbon monoxide detector or alarm for any home designed by the home manufacturer to be installed over a basement, regardless of whether the factory-built home contains a fuel burning appliance. The manufacturer would also be required to install an electrical junction box for interconnection to other required alarms or detectors. Finally, § 3280.211(c) would require each carbon monoxide alarm or detector installed at the factory to be operationally tested and to be repaired or replaced if it does not function properly during the test.

D. Attached Garages

HUD is proposing a new § 3280.212 to define fire separation requirements for manufactured homes with factory constructed attached garages or homes that are constructed for the attachment of a site-built garage to be constructed with and conform state and local building code requirements and based primarily on section R302 of the 2012 International Residential Code. Section 3280.212(a) would define the configuration requirements for placing fire separation materials between a garage and a manufactured home, including the required material type and thickness. Section 3280.212(b) would place restrictions on the location of openings between a manufactured home and a garage and the requirements for doors between garage openings and the manufactured home. Section 3280.212(c) would define material requirements for ducts that penetrate the walls or ceilings separating a manufactured home from the garage. This new standard will eliminate the need for manufacturers to follow the costly and burdensome AC process.

E. Attached Carports

HUD is proposing a new § 3280.213 to define requirements for manufactured homes with factory constructed carports or homes that are constructed for the attachment of a site-built carport. Paragraph (a) of § 3280.213 would require that the home be designed to accommodate the appropriate design loads from the carport that would be transferred to and through the home's structure and foundation and support systems. Section 3280.213(b) would require the manufacturer's designs to include identification of the specific characteristics of the home and carport design that impose limitations and restrictions resulting from the structural analysis of the attached feature. Such limitations and restriction identifications may include, but are not limited to, characteristics such as home widths, maximum carport length and width, and Wind Zone and Roof Load Zone. Paragraph (c) of § 3280.213 would provide requirements for the design of the structural support system and attachment points of the carport. Section 3280.213(d) would provide requirements for the design of the uplift resistance and anchoring methods used to transfer the design loads throughout the structure to the ground. Section 3280.213(e) would require that the design for the attachment at the home site be completed in a manner that does not prevent or impact the ability of the home to conform to roof and attic ventilation provisions established in § 3280.504(d). Finally, § 3280.213(f) would require that the manufacturer develop and provide installation instructions for the home to guide installers and other parties on the attachment of the carport to the home to ensure the home is not taken out of compliance with the Construction and Safety Standards.

The issue concerning attached carports, in general, was discussed at length by the MHCC at its September 2018 meeting. In accordance with the Act, HUD is proposing related standards in § 3280.213 for attached carports to complement the MHCC's recommendations and provide complete standards-based requirements for design and construction. The MHCC envisioned appropriate design and construction of the home and considered the installation instructions for affected homes. HUD developed and proposes § 3280.213 to move forward with the MHCC's correlating recommendations for bringing certain attached accessory buildings and structures (garages and carports) within the Construction and Safety Standards. Should HUD find that other accessory buildings and structures are being designed by home manufacturers for structural attachment, HUD will work with the MHCC to develop and promulgate appropriate proposed standards to address those accessory buildings and structures. These proposed revisions will, in most circumstances, eliminate the need for manufacturers to follow the costly and burdensome AC process, which is described later in this preamble, and will clarify how carports designed to be attached by the manufacturer should be viewed within the context of the Construction and Safety Standards.

F. Body and Frame Requirements

HUD proposes to revise § 3280.305 to establish standards for multi-story construction. Multi-story design and construction are a more recent feature of manufactured home construction that provides consumers expanded choice. HUD is proposing these requirements to eliminate the need for manufacturers to follow the costly and burdensome AC process. Specifically, HUD is proposing that manufacturers producing multi-story manufactured homes ensure that each story is securely fastened to the story above and below it by ensuring its approved designs and construction provide continuity and resist design loads set forth in the Construction and Safety Standards. In § 3280.305(a), HUD proposes that uncompressed finished flooring greater than ⅛ inch in thickness does not extend beneath load bearing walls that are fastened to the floor structure. HUD proposes amending § 3280.305(g) to require bottom board material to be tightfitted against all penetrations. HUD would revise § 3280.305(h) by adding a provision that would allow portions of roof assemblies to be assembled at the home site in accordance with 24 CFR part 3282, subpart M. Similarly, HUD is proposing to amend § 3280.307 to add paragraph (e), which would provide that multi-story and attached manufactured home construction would not be required to comply with factory installation of weather-resistant exterior construction under certain conditions.

G. Thermal Protection

HUD is proposing to revise § 3280.504(a)(3) to allow the vapor retarder of the first story ceiling to be omitted for multi-story homes when the story directly above is part of the same manufactured home. HUD is also proposing to add § 3280.504(b) that would provide requirements for design of the walls providing separation (mating or marriage wall) of attached manufactured homes to be treated as exterior walls. HUD is also amending § 3280.506(b) to address thermal requirements for the mating wall of attached manufactured homes.

H. Plumbing Systems

In § 3280.602, HUD is proposing to add a definition of “indirect waste receptor,” consistent with state and local standards. HUD is also proposing to revise § 3280.608(b) to add provisions for support of vertical drainage and water piping at each story height, an aspect required for multi-story manufactured homes. HUD is also proposing to revise the current provision in § 3280.609(c) for water heater relief valves by requiring the discharge from the relief valves to be piped to the outside of the home and would no longer allow them to be directly connected to the drainage system of the home. HUD is proposing this change to ensure against water build-up under the home. Section 3280.610(c) would be revised to also allow the site assembly of portions of drain lines between stories for multi-story construction. These new and revised standards support multi-story construction and will eliminate the need for manufacturers to follow the costly and burdensome AC process. HUD is also proposing amending § 3280.611(c) to allow sections of a wet-vented drain that are 3 inches in diameter to carry the waste of an unlimited number of fixtures. Finally, HUD proposed to revise § 3280.612(a) by lowering the test pressure for the water distribution test from 100 psi to 80 psi +/5 psi. HUD is proposing this change to avoid injury and align with typical state and local code requirements.

I. Heating, Cooling and Fuel Burning Systems

HUD is proposing to amend § 3280.705(c) by providing that interconnections between stories in multi-story manufactured homes be accessible through a panel on the exterior or interior of the manufactured home. HUD proposes revising § 3280.705(k) to amend the label that identifies the gas supply connection. This is a minor revision, changing “mobile” home to “manufactured” home. Finally, HUD is proposing to clarify and revise § 3280.705(l) by requiring that vertical gas piping in multi-story units be supported at intervals not to exceed 6 feet and by providing a tolerance of +/- 0.2 psi gauge for the gas piping test before appliances are connected. These proposed revisions will eliminate the need for manufacturers to follow the costly and burdensome AC process as discussed below.

HUD proposes to amend § 3280.708(a)(1) to clarify that complete factory installation of the exhaust duct system between transportable sections is not required if the exhaust duct system otherwise meets paragraphs (a)(1)(i) and (ii) of the section.

HUD proposes to revise § 3280.709(a) by allowing a direct-vent space heating appliance to be shipped loose for future installation in a basement provided it and its connections are field installed and inspected in accordance with approved installation instructions. This change would allow for design flexibility and optimal space planning and provide parity with site-built housing. Section 3280.710(d) would be revised by requiring venting systems to terminate at least 3 feet above any motor driven air intake discharging into habitable areas when located within 10 feet of the air intake. This would assure that proper separation is maintained between the air intake and exhaust system to prevent any products of combustion from the exhaust vent from entering the living space area.

J. Electrical Systems

HUD proposes to revise § 3280.807 by adding paragraph (g), which would require that ceiling and wall mounted light fixtures not be controlled by the same switch to improve energy efficiency. HUD is also proposing to revise § 3280.810(b) by requiring that each manufactured home be subject to electrical polarity checks to determine that connections have been made in accordance with applicable provisions of the Construction and Safety standards and Article 550.17 of the National Electric Code, NFPA No. 70-2005. HUD also proposes to maintain the provision that visual verification is an acceptable electrical polarity check.

I. Transportation Systems

HUD is proposing to revise § 3280.903(a) to describe the general provisions that need to be considered in the design of a structure to withstand transportation loads. Specifically, § 3280.903(b) would be revised to clarify provisions for conducting road tests to determine the adequacy of the structure to resist in-transit loads and would also be revised by incorporating certain provisions and engineering principles contained in the HUD-published Interpretative Bulletin J-1-76 for preparing an engineering analysis for designing the structure to resist transportation loads. HUD intends to retire Interpretive Bulletin J-1-76 once this rule is published as a final rule and the rule takes legal effect. The alternative currently provided by § 3280.903(c) of allowing the use of documented evidence to satisfy the transportation design requirements would be removed since there is no consistent data collection methodology that has historically been maintained by manufacturers to satisfy this requirement.

HUD is revising § 3280.904(b) by adding new requirements for recycled axles and used tires and by reference to 49 CFR 571.19 (Federal Motor Vehicle Safety Standard No.119) for both determining the load capacity and selection criteria requirements for both new and used tires. The stopping distance for conducting highway brake tests from an initial speed of 20 miles per hour would be reduced from 40 to 35 feet to be consistent with U.S. Department of Transportation regulations (refer to 49 CFR 393.52).

L. Attached Manufactured Homes and Special Construction

HUD is proposing to add a new subpart K for attached manufactured homes with a zero lot line and other related construction that is not covered elsewhere in the Construction and Safety Standards. Subpart K would enable manufacturers to design and construct homes similar to townhomes, which may be useful to address affordable housing needs in Opportunity Zones and urban or other areas. These new standards would eliminate the need for manufacturers to follow the costly and burdensome AC process and would establish Federal preemption for aspects that would otherwise be under the jurisdiction of state and local authorities. To meet the requirements of the new subpart, § 3280.1002 would require that each manufactured home be structurally independent from the other and be protected by a fire separation wall when closer than three feet to another attached manufactured home. Section 3280.1003 would require attached manufactured homes be separated from each other by a fire separation wall of at least one-hour fire-resistive construction, including requirements that the fire separation wall not contain through-penetrations or openings. The provisions also require that the fire separation wall be continuous from the foundation to the underside of the roof sheathing, decking, or slab, and that a parapet be provided for attached construction unless roofs are of a Class C roof covering and the roof decking or sheathing is of noncombustible materials or approved fire retardant treated wood or a layer of ⅝ inch Type X gypsum board is installed directly below the sheathing for a distance of at least 4 feet on each side of the fire separation wall. Parapets would also be required to have the same fire resistance rating as that required for the supporting walls. Section 3280.104 would require that the fire separation wall on each attached manufactured home be provided with condensation control protection and a vapor retarder and be insulated to meet the thermal protection requirements of the Standards. Section 3280.105 would require that each attached manufactured home be provided with its own electrical service and that service conductors not pass between each home. Lastly, § 3280.106 would require that each attached home have its own individual water supply and water heater.

M. Changes to the Manufactured Home Procedural and Enforcement Regulations (24 CFR Part 3282)

In addition to recommending changes to the Construction and Safety Standards, the MHCC, at its September 2018 meeting, included recommended revisions to the Manufactured Home Procedural and Regulations at 24 CFR part 3282. These recommendations relate to the recommendations made by the MHCC in its third set of standards addressing attached garages. These MHCC recommendations also respond to public comments HUD received on reducing regulatory burdens associated with regulating the design and construction of homes with attached garages and attached carports (see 83 FR 3635, January 26, 2018).

Consistent with these recommendations, HUD is proposing to amend various provisions of part 3282 to address attached garages and carports. Significantly, HUD proposes that attached garages and carports would not be subject to HUD review and approval through the AC process if designed and constructed without affecting the home's performance and the home's compliance with the Construction and Safety Standards. Specifically, HUD proposes to add a definition for an “attached accessory building or structure” at § 3282.7 as recommended by the MHCC and modified by HUD to ensure the clarity of intent. HUD proposes that the definition of an “attached accessory building or structure” mean “any awning, cabana, deck, ramada, storage cabinet, carport, fence, windbreak, garage or porch for which the attachment of such is designed by the home manufacturer to be structurally supported by the basic manufactured home.” In accordance with the MHCC's recommendation, HUD also proposes to revise the definition of “add-on” at § 3282.8(j) to address attached accessory buildings and structures that may constitute add-ons and to provide specific provisions for more common structurally dependent attached accessory buildings or structures, such as attached garages and attached carports. HUD is also proposing to amend the policy provision of § 3282.14 to exclude add-ons or attached buildings or structures that do not affect the performance and ability of the home to comply with the Construction and Safety Standards. Finally, HUD proposes to amend § 3282.601, consistent with §§ 3282.7 and 3282.14, to provide that an add-on or attached accessory building or structure that does not affect the performance of the home and the home's compliance with the Construction and Safety Standards is not subject to subpart M, the On-Site Completion of Construction of Manufactured Homes requirements.

N. Changes to the Model Manufactured Home Installation Standards (24 CFR Part 3285)

In addition to recommending changes to the Construction and Safety Standards, the MHCC at its September 2018 meeting included recommended revisions to the Manufactured Home Model Installation Standards, at 24 CFR part 3285. These recommendations also relate to the recommendations made by the MHCC in its third set of standards addressing attached garages. More recent MHCC recommendations also respond to public comments received on reducing regulatory burdens associated with installing manufactured homes designed for site attached garages and site attached carports (see 83 FR 3635, January 26, 2018). These proposed changes are necessary to ensure that homes designed for the attachment of garages and carports have appropriate installation instructions and would not require special inspections generally required through the AC letter process. Accordingly, HUD proposes to add the MHCC recommended definition for an “attached accessory building or structure” at § 3285.5. HUD is also proposing to amend the provisions for the add-on or installation of attached accessory buildings or structures set forth at § 3285.903, in accordance with a MHCC recommendation to incorporate the new terminology for attached accessory buildings or structures.

III. Recommendation Returned to MHCC

HUD is returning to the MHCC for further consideration, the proposal to add requirements for draftstopping as identified in the MHCC's recommendation for Report on Comments (ROC) number 20, also referred to by the MHCC as 20 ROC. The proposed amendment recommended by the MHCC include provisions addressing draftstopping requirements for:

• Concealed spaces of a floor/ceiling assemblies;

• dividing large concealed areas;

• locations where an assembly is below a floor membrane and above a ceiling membrane;

• acceptable draftstopping materials;

• installation along framing members; and

• maintaining the integrity of all draftstops.

HUD is returning this proposal to the MHCC because potential significant costs have been identified in HUD's review of the recommendations, and some manufacturers, responding to requests for cost impact information, have identified ambiguity in the application of the MHCC-recommended standards. Manufacturers contacted regarding potential costs associated with the proposed requirements provided material cost estimates ranging from over $30 to about $400 per home to comply with these proposed draftstopping provisions. One manufacturer assumed that draftstopping would only be provided between two dwelling units of a multi-family home and provided costs and construction estimates associated with separating two dwelling units. Another manufacturer expressed concerns with obtaining complete separation in the floor cavity space while maintaining about equal concealed space for each area as required by the proposal. Still another manufacturer expressed concerns over unintended consequences that would result from the proposed draftstopping provisions due to potential additional costs for ventilation of attic spaces and higher labor costs associated with penetrations and gaps needed for ductwork, electrical wiring, etc. Further, allowances for penetrations and gaps is inconsistent with the above MHCC-recommended standard which would require the integrity of all draftstops to be maintained. In view of these concerns, HUD believes that this proposal should be reconsidered by the MHCC, addressed, and processed with future recommendations being evaluated by the MHCC for multi-family manufactured homes, rather than to be required in the construction of any manufactured home where the area of concealed spaces exceeds 1000 square feet in area.

IV. Incorporation by Reference

Before HUD issues a final rule, the reference standards proposed for incorporation will be approved by the Director of the Federal Register for incorporation by reference in accordance with 5 U.S.C. 552(a) and 1 CFR part 51. Copies of these standards may be obtained from the organization that developed the standard. As described in § 3280.4, these standards are also available for inspection at HUD's Office of Manufactured Housing Programs and the National Archives and Records Administration.

This proposed rule would incorporate by reference the following five new consensus standards for Manufactured Housing:

1. ANSI/ASHRAE 62.2-2010, Ventilation and Acceptable Indoor Air Quality in Low-Rise Residential Buildings. This standard defines the roles of and minimum requirements for mechanical and natural ventilation systems and the building envelope intended to provide acceptable indoor air quality in low-rise residential buildings. It is ASHRAE's Indoor Air Quality standard for residential buildings. It applies to spaces intended for human occupancy within single-family houses and multi-family structures of three stories or fewer above grade, including manufactured and modular houses. This standard is available online for review and comment during this rule's comment period via read-only, electronic access at http://ibr.ansi.org/Standards/.

2. ANSI/UL 2034-2008. Standard for Single and Multiple Station Carbon Monoxide Alarms. These requirements cover electrically operated single and multiple station carbon monoxide (CO) alarms intended for protection in ordinary indoor locations of dwelling units, including recreational vehicles, mobile homes, and recreational boats with enclosed accommodation spaces and cockpit areas. The carbon monoxide alarms covered by these requirements are intended to respond to the presence of carbon monoxide from sources such as, but not limited to, exhaust from internal-combustion engines, abnormal operation of fuel-fired appliances, and fireplaces. Carbon monoxide alarms are intended to alarm at carbon monoxide levels below those that cause a loss of ability to react to the dangers of carbon monoxide exposure. Carbon monoxide alarms covered by this standard are not intended to alarm when exposed to long-term, low-level carbon monoxide exposures or slightly higher short-term transient carbon monoxide exposures, possibly caused by air pollution or properly installed and maintained fuel-fired appliances and fireplaces. This standard is available online for review and comment during this rule's comment period via read-only, electronic access at http://ibr.ansi.org/Standard.

3. ASTM E 119, 2005. Standard Test Methods for Fire Tests of Building Construction and Materials. This standard is used to measure and describe the response of materials, products, or assemblies to heat and flame under controlled conditions, but does not by itself incorporate all factors required for fire hazard or fire risk assessment of the materials, products, or assemblies under actual fire conditions. This standard is available online for review and comment during this rule's comment period via read-only, electronic access at http://www.ASTM.org/READINGLIBRARY.

4. NFPA No. 70-2005, Article 550.17. National Electronic Code. The provisions of this article cover the electrical conductors and equipment installed within or on mobile and manufactured homes, the conductors that connect mobile and manufactured homes to a supply of electricity, and the installation of electrical wiring, luminaires (fixtures), equipment, and appurtenances related to electrical installations within a mobile home park up to the mobile home service-entrance conductors or, if none, the mobile home service equipment. More specifically, Article 550.17 provides that the wiring of each mobile home be subjected to a 1-minute, 900-volt, dielectric strength test (with all switches closed) between live parts (including neutral) and the mobile home ground. Alternatively, the standard allows a test to be performed at 1080 volts for 1 second. This test shall be performed after branch circuits are complete and after luminaires (fixtures) or appliances are installed. This standard is available online for review and comment during this rule's comment period via read-only, electronic access at http://ibr.ansi.org/Standards.

5. NFPA 720. Standard for the Installation of Carbon Monoxide (CO) Detection and Warning Equipment. This document does not attempt to cover all equipment, methods, and requirements that might be necessary or advantageous for the protection of lives from carbon monoxide exposure. The effects of exposure to carbon monoxide vary significantly among different people. Infants, pregnant women, and people with physical conditions that limit their bodies' ability to use oxygen can be affected by low concentrations of carbon monoxide. These conditions include, but are not limited to, emphysema, asthma, and heart disease, all of which are usually indicated by a shortness of breath upon mild exercise. People in need of warning about low levels of carbon monoxide should explore the use of specially calibrated units or other alternatives. This standard is primarily concerned with life safety, not with protection of property. It covers the selection, design, application, installation, location, performance, inspection, testing, and maintenance of carbon monoxide detection and warning equipment in buildings and structures. This standard is available online for review and comment during this rule's comment period via read-only, electronic access at http://ibr.ansi.org/Standards.

The sections of the Construction and Safety Standards that would be amended by each reference modification and the impact of each reference is shown in the chart below.

Standard | Edition | Title | Section | Comment
ANSI/UL 2034 | 2008 | Single and Multiple Station Carbon Monoxide Alarms | § 3280.211(a) | Only required for homes that incorporate a gas burning appliance and then preempts state and local requirements already established in 38 states.
ANSI/ASHRAE 62.2 | 2010 | Ventilation and Acceptable Indoor Air Quality in Low-Rise Residential Buildings | § 3280.103(d) | Provides an option to ventilation requirements established at § 3280.103(b) and (c).
NFPA No.70 Article 550.17 | 2005 | National Electrical Code | § 3280.810(b) | Provides for a referenced standard to conduct polarity checks as an option to visual polarity checks.
NFPA 720 | 2015 | Standard for the Installation Carbon Monoxide Detection Equipment | § 3280.211(a) | Only required for homes that incorporate a gas burning appliance or an attached garage and then preempts state and local requirements already established in 38 states.
ASTM E 119 | 2005 | Standard Test Method for Fire Tests of Building Construction and Materials | § 3280.1003(a) | Allows for a manufacturer to design and construct attached housing that is otherwise only permitted through an AC review and approval.

In addition to reviewing these standards on-line, copies of the standards may be obtained from the organization that developed the standard as follows:

ANSI—American National Standards Institute, 11 West 42nd Street, New York, NY 10036, 212-642-4900, fax 212 398-0023, www.ansi.org.

ASHRAE—American Society of Heating, Refrigeration, and Air Conditioning Engineers, 1791 Tullie Circle, NE, Atlanta GA 30329, 404-636-8400, fax 404-321-5478.

ASTM—American Society for Testing and Materials, 100 Barr Harbor Drive, West Conshohocken, Pennsylvania 19428, 610 832-9500, fax 610-832-9555, www.astm.org.

NFPA—National Fire Protection Association, Batterymarch Park, Quincy, Massachusetts 02269, 617-770-3000, fax 617-770-0700, www.nfpa.org.

UL—Underwriters Laboratories, 333 Pfingsten Road, Northbrook, Illinois 60062, 847-272-8800, fax 847-509-6257, www.ul.com.

This proposed rule also references ASTM D781-1968 (Reapproved 1973), which has already been approved for incorporation by reference. No changes are being proposed to this IBR.

V. Findings and Certifications

Regulatory Review—Executive Orders 12866 and 13563

Under Executive Order 12866 (Regulatory Planning and Review), a determination must be made whether a regulatory action is significant and, therefore, subject to review by the Office of Management and Budget (OMB) in accordance with the requirements of the order. Executive Order 13563 (Improving Regulations and Regulatory Review) directs executive agencies to analyze regulations that are “outmoded, ineffective, insufficient, or excessively burdensome, and to modify, streamline, expand, or repeal them in accordance with what has been learned.” Executive Order 13563 also directs that, where relevant, feasible, and consistent with regulatory objectives, and to the extent permitted by law, agencies are to identify and consider regulatory approaches that reduce burdens and maintain flexibility and freedom of choice for the public.

This rule was determined to be a “significant regulatory action” as defined in section 3(f) of the Executive order (although not an economically significant regulatory action, as provided under section 3(f)(1) of the Executive order).

Executive Order 13771

Executive Order 13771, entitled “Reducing Regulation and Controlling Regulatory Costs,” was issued on January 30, 2017. This rule is expected to be an Executive Order 13771 regulatory action. Details on the estimated cost savings of this proposed rule can be found below in the Summary of Benefits and Costs, and in the rule's Regulatory Impact Analysis.

Summary of Benefits and Costs of Rule

As discussed, this proposed rule would amend the Federal Manufactured Home Construction and Safety Standards by adopting recommendations made to HUD by the MHCC. In this regard, this proposed rule would revise various standards that reflect current construction practices used by the manufacturing housing industry and the home construction industry in general. For example, when a manufacturer chooses to install a carbon monoxide detector, the manufacturer will use a detector that has been listed in accordance with requirements of ANSI/UL 2034 and the manufacturer will install the detector in accordance with the product's installation instructions that meet the requirements of NFPA 720. Similarly, standards proposed that are applicable to interior door widths as well as those provisions for multi-story and attached manufactured homes are based on current construction practices that have largely been established due to pre-existing requirements of state and local jurisdictions for other housing products (i.e., site-built or modular). Other standards recommended by the MHCC and proposed by HUD, such as those that would define requirements for stairways, landings, handrails, guards and stairway illumination, would free manufacturers from having to follow various state and local requirements that vary from jurisdiction to jurisdiction and bring uniformity to manufactured home construction nation-wide. The rule would also incorporate five new reference standards that are already standards used in the design, listing, and evaluation of the respective materials or components.

In addition, HUD has concluded that this rule, if finalized, would provide manufacturers more flexibility in the ability to pursue design options and, more importantly, cost savings as the result of eliminating the need to obtain HUD approval through the Alternative Construction (AC) process (see § 3282.14). More specifically, manufacturers need to engage the AC process to design and construct manufactured homes that incorporate innovations that have not yet been codified in HUD's Construction and Safety Standards. For example, HUD's proposals addressing the design and construct of multi-story homes, attached homes, or homes that are designed to accommodate an attached garage or carport that is not factory constructed but added to the home during the home installation process, may create regulatory confusion between state, local, and Federal authorities and may sometimes require HUD approval through the AC process prior to the manufacturer being able to incorporate these design features. After review of an AC request, HUD establishes specific terms and conditions for use of the design through an AC letter. While the AC process serves a useful purpose, including encouraging the use of new technology in the construction of manufactured homes, HUD believes that codification of certain design features that have been reviewed can provide cost savings for manufacturers and reduce regulatory confusion when directly addressed within the code. In fact, HUD's proposed rule is based primarily on the MHCC's recommendations and integrates some aspects of specific AC letters that have been issued in the past. Specifically, regulatory costs that are currently borne by the manufactured home manufacturer associated with preparing an AC request and maintaining the AC approvals include:

1. Manufacturers' engineers' preparation of designs, calculations, or tests for aspects that do not conform with outdated building standards for past innovations that have become more commonplace but have not yet been incorporated into the Construction and Safety Standards;

2. DAPIA review and approval of the designs, calculations, and or tests to be submitted on behalf of the manufacturers requesting HUD's approval;

3. Preparation of a submission package for the AC request, including all designs, calculations, and tests to be sent to HUD for approval;

4. Lost opportunity costs and actual manufacturer and DAPIA staff time to respond to HUD throughout the review and approval process, which, depending on the specific AC request, may take as few as 30 days or as long as 6 months;

5. Time and travel associated with third-party inspections at each affected home's site for manufactured homes built under an AC that requires a site inspection be conducted in order to verify conformance with specific terms and conditions of the AC approval; and

6. Maintaining and providing copies of AC-specific production reports, inspection reports, and other administrative burdens required to maintain the AC approval.

This rule would also require that carbon monoxide detectors be installed in homes with fuel burning appliances or designed by the home manufacturer for an attached garage. These provisions are intended to be consistent with other single-family dwelling construction requirements and are intended to provide early warning alerts to occupants of the presence of carbon monoxide within the living space of the manufactured home. Specifically, this rule would require that carbon monoxide alarms or detectors be installed in accordance with the Standard for the Installation of Carbon Monoxide Detection Equipment, NFPA 720-2015, and be listed and conform to the requirements of Single and Multiple Station Carbon Monoxide Alarms, ANSI/UL 2034-2008 edition.

In sum, the one-time annual costs of this proposed rule range from $2.19 million to $4.122 million. Total valued benefits range from $8.515 million to $12.517 million. Unvalued benefits include reduced home damage and injuries from piping water heater relief valves to outside of the home and from the avoided delay during the AC review. The total estimated annual costs and benefits are described in the chart below.

| 3 percent: Low estimate | 3 percent: High estimate | 7 percent: Low estimate | 7 percent: High estimate
Total Annual Costs (See Figure 3):
Carbon Monoxide Detector Requirement | $258,000 | $1,352,400 | $258,000 | $1,352,400
Water heater relief valves | 1,352,400 | 483,000 | 1,352,400 | 483,000
Wet-vented drains | 483,000 | 96,600 | 483,000 | 96,600
Separate Bathroom Light Switches | 96,600 | 2,190,000 | 96,600 | 2,190,000
Total | $2,190,000 | $4,122,000 | $2,190,000 | $4,122,000
Present Value of Benefits
Carbon Monoxide Detector Requirement (See Figure 4):
Value of Injuries Prevented | $166,818 | $166,818 | $142,688 | $142,688
Value of Deaths Prevented | 8,908,186 | 8,908,186 | 7,619,651 | 7,619,651
Wet-vented drains (See Figure 7) | 483,000 | 772,800 | 483,000 | 772,800
Separate Bathroom Light Switches (See Figure 5) | 326,796 | 2,614,366 | 214,929 | 1,719,434
Deregulatory (See Figure 6):
Whole-House Ventilation | 3,540 | 3,540 | 3,540 | 3,540
2-Story Homes | 12,640 | 12,640 | 12,640 | 12,640
Attached Garages | 38,836 | 38,836 | 38,836 | 38,836
Total | 9,939,816 | 12,517,187 | 8,515,285 | 10,309,589

A fuller discussion of the costs and benefits of this rule is available in the rule's Regulatory Impact Analysis, which is part of this docket.

Finally, any changes made to the rule subsequent to its submission to OMB are identified in the docket file, which is available for public inspection in the Regulations Division, Room 10276, Office of General Counsel, U.S. Department of Housing and Urban Development, 451 7th Street SW, Washington, DC 20410-0500.

Paperwork Reduction Act

The information collection requirements contained in this proposed rule have been approved by the OMB under the Paperwork Reduction Act of 1995 (44 U.S.C. 3501-3520) and assigned OMB control number 2502-0253. HUD expects to make changes to the existing recordkeeping items consistent with changes in this proposed rule and believes that the changes will result in a decrease of burden. In accordance with the Paperwork Reduction Act, an agency may not conduct or sponsor, and a person is not required to respond to, a collection of information unless the collection displays a valid control number.

The burden of information collection addressed in this proposed rule is estimated as follows for those aspects that would continue to require AC requests and does not include burdens for past AC requests related to carport-ready homes, garage-ready homes, homes that exceed 2,571 square feet (whole house ventilation), and two-story homes:

Information collection | Number of respondents | Frequency of response | Responses per annum | Burden hours per response | Annual burden hours | Hourly cost per response | Annual cost
Manufacturers Records:
§ 3282.14 Alternative Construction Submissions | 135 | 0.75 | 101 | 2.5 | 253 | $33.57 | $8,493.21
IPIA Records:
§ 3282.14 Alternative Construction Submission Concurrence Records and Reporting | 12 | 14 | 168 | 2.0 | 336 | 33.57 | 11,279.52
DAPIA Records:
§ 3282.203/361/364 Design Review Records and Reporting | 6 | 28 | 168 | 1.0 | 168 | 33.57 | 5,639.76
Total | 153 |  | 569 |  | 757 |  | 25,412.49

In accordance with 5 CFR 1320.8(d)(1), HUD is soliciting comments from members of the public and affected agencies concerning the information collection requirements in the proposed rule regarding:

(1) Whether the proposed collection of information is necessary for the proper performance of the functions of the agency, including whether the information will have practical utility;

(2) The accuracy of the agency's estimate of the burden of the proposed collection of information;

(3) Whether the proposed collection of information enhances the quality, utility, and clarity of the information to be collected; and

(4) Whether the proposed information collection minimizes the burden of the collection of information on those who are to respond; including through the use of appropriate automated collection techniques or other forms of information technology (e.g., permitting electronic submission of responses).

Interested persons are invited to submit comments regarding the information collection requirements in this rule. Under the provisions of 5 CFR part 1320, OMB is required to decide concerning this collection of information between 30 and 60 days after the publication date. Therefore, a comment on the information collection requirements is best assured of having its full effect if OMB receives the comment within 30 days of the publication. This time frame does not affect the deadline for comments to the agency on the proposed rule, however. Comments must refer to the proposed rule by name and docket number (FR-6149-P-01) and must be sent to:

HUD Desk Officer, Office of Management and Budget, New Executive Office Building, Washington, DC 20503, Fax number: 202-395-6947

and

Colette Pollard, HUD Reports Liaison Officer, Department of Housing and Urban Development, 451 7th Street SW, Room 2204, Washington, DC 20410

Interested persons may submit comments regarding the information collection requirements electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the http://www.regulations.gov website can be viewed by other commenters and interested members of the public. Commenters should follow the instructions provided on that site to submit comments electronically.

Unfunded Mandates Reform Act

Title II of the Unfunded Mandates Reform Act of 1995 (2 U.S.C. 1531-1538) establishes requirements for Federal agencies to assess the effects of their regulatory actions on state, local, and tribal governments and the private sector. This rule will not impose any Federal mandates on any state, local, or tribal government or the private sector within the meaning of the Unfunded Mandates Reform Act of 1995.

Environmental Review

A Finding of No Significant Impact with respect to the environment has been made in accordance with HUD regulations at 24 CFR part 50, which implement section 102(2)(C) of the National Environmental Policy Act of 1969 (42 U.S.C. 4332(2)(C)). The Finding of No Significant Impact is available for public inspection between the hours of 8 a.m. and 5 p.m. weekdays in the Regulations Division, Office of General Counsel, Room 10276, Department of Housing and Urban Development, 451 Seventh Street SW, Washington, DC 20410-0500. The Finding of No Significant Impact will also be available for review in the docket for this rule on Regulations.gov.

Regulatory Flexibility Act

The Regulatory Flexibility Act (RFA) (5 U.S.C. 601 et seq.) generally requires an agency to conduct a regulatory flexibility analysis of any rule subject to notice and comment rulemaking requirements, unless the agency certifies that the rule will not have a significant economic impact on a substantial number of small entities. It is HUD's position that this proposed rule would not have a significant economic impact on a substantial number of small entities. This proposed rule would regulate establishments primarily engaged in making manufactured homes (NAICS 32991). The U.S. Small Business Administration's size standards define an establishment primarily engaged in making manufactured homes as small if it does not exceed 1,250 employees. Of the 222 firms included under this NAICS definition, approximately 35 produce manufactured homes subject to HUD's Manufactured Housing Construction and Safety Standards. Other entities covered by this NAICS code build non-HUD code prefabricated buildings. Of the 35 manufacturers subject to HUD's Manufactured Housing Construction and Safety Standards, 31 are considered to be small businesses based on the threshold of 1,250 employees or less. The proposed rule will apply to all the manufacturers and thus would affect a substantial number of small entities.

Small entities have the ability and capability to offer the same type of housing products with the same or similar options, features and appliances as larger manufacturers. However, smaller manufacturers have more difficulty spreading regulatory costs over the higher production of homes like that of a large, higher producing manufacturer. Small manufacturers would need to bear the costs, reducing profit margins accordingly or passing-through the costs over lower production amounts. This may disproportionally increase the cost of housing products for small manufacturers considering the same or similar options, features and appliances. This rule, however, would provide small manufacturers greater flexibility to pursue design options and, more importantly, obtain cost savings resulting from the elimination of the need to obtain HUD approval through the AC process (see § 3282.14). More specifically, small manufacturers are more likely to engage engineering consultants and other non-staff resources in order to provide data and information needed for the AC process. Consequently, small manufacturers would benefit most from the provisions of this rule that eliminate the AC process for design and construction of manufactured homes that incorporate innovations that have not yet been codified in HUD's Construction and Safety Standards. Additionally, the elimination of these current regulatory costs may provide small manufacturers the opportunity to pursue design and construction innovations that absent the rule would have been too costly to pursue.

For the reasons stated, a substantial number of small manufacturers with fewer than 1,250 employees will be affected by this rule. Nevertheless, HUD anticipates that the rule, if adopted, would not have a significant economic impact on them. Accordingly, the undersigned certifies that this rule would not have a significant economic impact on a substantial number of small entities.

Notwithstanding HUD's determination that this rule would not have a significant economic effect on a substantial number of small entities, HUD specifically invites comments on its Regulatory Impact Analysis, this certification, and on any less burdensome alternatives to this rule that will meet HUDs objectives as described in this preamble.

Executive Order 13132, Federalism

Executive Order 13132 (entitled “Federalism”) prohibits, to the extent practicable and permitted by law, an agency from promulgating a regulation that has federalism implications and either imposes substantial direct compliance costs on state and local governments and is not required by statute, or preempts state law, unless the relevant requirements of section 6 of the Executive order are met. This rule does not have federalism implications and does not impose substantial direct compliance costs on state and local governments or preempt state law within the meaning of the Executive order.

Catalog of Federal Domestic Assistance

The Catalog of Federal Domestic Assistance number for Manufactured Housing Construction and Safety Standards is 14.171.

List of Subjects

24 CFR Part 3280

Fire prevention, Housing standards, Incorporation by reference.

24 CFR Part 3282

Administrative practice and procedure, Consumer protection, Intergovernmental relations, Investigations, Manufactured homes, Reporting and recordkeeping requirements, Warranties.

24 CFR Part 3285

Housing standards, Manufactured homes.

Accordingly, for the reasons described in the preamble, HUD proposes to amend 24 CFR parts 3280, 3282, and 3285 to read as follows:

PART 3280—MANUFACTURED HOME CONSTRUCTION AND SAFETY STANDARDS

1. The authority citation for part 3280 continues to read as follows:

Authority: 42 U.S.C. 3535(d), 5403, and 5424.

2. In § 3280.2, add in alphabetical order a definition for “Attached accessory building or structure” to read as follows:

§ 3280.2 Definitions.

* * * * *

Attached accessory building or structure means any awning, cabana, deck, ramada, storage cabinet, carport, fence, windbreak, garage or porch for which the attachment of such is designed by the home manufacturer to be structurally supported by the basic manufactured home.

* * * * *

3. Revise § 3280.3 to read as follows:

§ 3280.3 Manufactured home procedural and enforcement regulations, and consumer manual requirements.

(a) A manufacturer must comply with the requirements of this part, part 3282 of this chapter, and 42 U.S.C. 5416.

(b) Consumer manuals must be in accordance with § 3282.207 of this chapter.

4. Amend § 3280.4 as follows:

a. Add paragraph (m)(2);

b. Redesignate paragraphs (p)(27) through (33) as paragraphs (p)(28) through (34), respectively, and add new paragraph (p)(27);

c. Redesignate paragraphs (aa)(4)(xvi) through (xix) as paragraphs (aa)(4)(xvii) through (xx), respectively, and add new paragraph (aa)(4)(xvi); and

d. Add paragraphs (aa)(9) and (hh)(23).

The additions read as follows:

§ 3280.4 Incorporation by reference.

* * * * *

(m) * * *

(2) ANSI/ASHRAE 62.2—2010 edition, Ventilation and Acceptable Indoor Air Quality in Low-Rise Residential Buildings, IBR approved for § 3280.103(d).

* * * * *

(p) * * *

(27) ASTM E 119—2005, Standard Test Method for Fire Tests of Building Construction and Materials, IBR approved for § 3280.1003(a).

* * * * *

(aa) * * *

(4) * * *

(xvi) Article 550.17, IBR approved for § 3280.810(b).

* * * * *

(9) NFPA 720, Standard for Installation of Carbon Monoxide Detection Equipment, 2015, IBR approved for § 3280.211(a).

* * * * *

(hh) * * *

(23) ANSI/UL 2034—2008 edition, Single and Multiple Station Carbon Monoxide Alarms, IBR approved for § 3280.211(a).

* * * * *

5. In § 3280.5, redesignate paragraphs (d) through (h) as paragraphs (e) through (i), respectively, and add new paragraph (d) to read as follows:

§ 3280.5 Data plate.

* * * * *

(d) The applicable statement:

This manufactured home IS NOT designed to accommodate the additional loads imposed by the attachment of an attached accessory building or structure.

Or

This manufactured home IS designed to accommodate the additional loads imposed by the attachment of an attached accessory building or structure in accordance with the manufacturer installation instructions. The additional loads are in accordance with the design load(s) identified on this Data Plate.

* * * * *

6. In § 3280.11, revise paragraph (d) to read as follows:

§ 3280.11 Certification label.

* * * * *

(d) The label must be located at the taillight end of each transportable section of the manufactured home approximately 1 foot up from the floor and 1 foot in from the road side, or as near that location on a permanent part of the exterior of the manufactured home section as practicable. The road side is the right side of the manufactured home when one views the manufactured home from the tow bar end of the manufactured home. If locating the label on the taillight end of a transportable section will prevent the label from being visible after the manufactured home section is installed at the installation site, the label must be installed on a permanent part of the exterior of the manufactured home section, in a visible location as specified in the approved design.

7. In § 3280.103, revise paragraph (b) introductory text and add paragraph (d) to read as follows:

§ 3280.103 Light and ventilation.

* * * * *

(b) Whole-house ventilation. Each manufactured home must be provided with whole-house ventilation having a minimum capacity of 0.035 ft³/min/ft² of interior floor space or its hourly average equivalent. This ventilation capacity must be in addition to any openable window area. In no case shall the installed ventilation capacity of the system be less than 50 cfm. The following criteria must be adhered to:

* * * * *

(d) Optional ventilation provisions. As an option to complying with the provisions of paragraphs (b) and (c) of this section, ventilation systems complying with ANSI/ASHRAE Standard 62.2 —2010 edition, Ventilation and Acceptable Indoor Air Quality in Low-Rise Residential Buildings (incorporated by reference, see § 3280.4) may be used.

8. In § 3280.108, add paragraph (c) to read as follows:

§ 3280.108 Interior passage.

* * * * *

(c) All interior swinging doors must have a minimum clear opening of 27 inches except doors to toilet compartments in single-section homes (see § 3280.111(b)).

9. Revise § 3280.111 to read as follows:

§ 3280.111 Toilet compartments.

(a) Each toilet compartment must be a minimum of 30 inches wide, except, when the toilet is located adjacent to the short dimension of the tub, the distance from the tub, to the center line of the toilet must not be less than 12 inches. At least 21 inches of clear space must be provided in front of each toilet.

(b) All single-section bathroom passage doors must have a minimum clear opening width of 23 inches, and multi-section bathroom passage doors must have a minimum clear opening width of 27 inches.

10. In § 3280.113, redesignate paragraphs (b), (c), and (d) as paragraphs (c), (d), and (e), respectively, and add new paragraph (b) to read as follows:

§ 3280.113 Glass and glazed openings.

* * * * *

(b) Glazed openings facing porch areas. Required glazed openings shall be permitted to face into a roofed porch where the porch abuts a street, yard, or court and the longer side of the porch is at least 65 percent open and unobstructed and the ceiling height is not less than 7 feet.

* * * * *

11. Add § 3280.114 to read as follows:

§ 3280.114 Stairways.

(a) Stairways—(1) Width. Stairways must not be less than 36 inches in clear width at all points above permitted handrail height and below the required headroom height. Handrails must not project more than 4½ inches on either side of the stairway and the minimum clear width of the stairway at and below the handrail height, including treads and landings, must not be less than 31 ½ inches where a handrail is installed on one side and 27 inches where handrails are provided on both sides. The width of spiral stairways shall be in accordance with paragraph (a)(5) of this section.

(2) Stair treads and risers—(i) Riser height and tread depth. The maximum riser height must not exceed 7¾ inches and the minimum tread depth must not be less than 10 inches. The riser height must be measured vertically between leading edges of the adjacent treads. The tread depth must be measured horizontally between the vertical planes of the foremost projection of adjacent treads and at a right angle to the tread's leading edge. The walking surface of treads and landings of a stairway must be sloped no steeper than one unit vertical in 48 units horizontal (2-percent slope). The greatest riser height within any flight of stairs must not exceed the smallest by more than % inch. The greatest tread depth within any flight of stairs must not exceed the smallest by more than % inch.

(ii) Profile. The radius of curvature at the leading edge of the tread must not be greater than 9/16-inch. A nosing not less than ¾-inch but not more than 1¼ inches shall be provided on stairways with solid risers. The greatest nosing projection must not exceed the smallest nosing projection by more than % inch between two stories, including the nosing at the level of floors and landings. Beveling of nosing must not exceed ½-inch. Risers must be vertical or sloped from the underside of the leading edge of the tread above at not more than 30 degrees from the vertical. Open risers are permitted, provided that the opening between treads does not permit the passage of a 4-inch diameter sphere. A nosing is not required where the tread depth is a minimum of 11 inches. The opening between adjacent treads is not limited on stairs with a total rise of 30 inches or less.

(3) Headroom. The minimum headroom in all parts of the stairway must not be less than 6 feet 8 inches, measured vertically from the sloped plane adjoining the tread nosing or from the floor surface of the landing or platform.

(4) Winders (winding stairways). Winders are permitted, provided that the width of the tread at a point not more than 12 inches from the side where the treads are narrower is not less than 10 inches and the minimum width of any tread is not less than 6 inches. Within any flight of stairs, the greatest winder tread depth at the 12-inch walk line must not exceed the smallest by more than ⅜ inch. The continuous handrail required by paragraph (c)(3) of this section must be located on the side where the tread is narrower.

(5) Spiral stairways. Spiral stairways are permitted provided the minimum width is a minimum 26 inches with each tread having 7 Y2 inch minimum tread width at 12 inches from the narrow edge. All treads must be identical, and the rise must be no more than 9-Y2 inches. Minimum headroom of 6 feet, 6 inches must be provided.

(6) Circular stairways. Circular stairways must have a tread depth at a point not more than 12 inches from the side where the treads are narrower of not less than 11 inches and the minimum depth of any tread must not be less than 6 inches. Tread depth at any walking line, measured a consistent distance from a side of the stairway, must be uniform as specified in paragraph (a)(2)(i) of this section.

(b) Landings. Every landing must have a minimum dimension of 36 inches measured in the direction of travel. Landings must be located as follows:

(1) There must be a floor or landing at the top and bottom of each stairway, except at the top of an interior flight of basement stairs, provided a door does not swing over the stairs. The width of each landing must not be less than the stairway served.

(2) A landing or floor must be located on each side of an interior doorway and the width of each landing must not be less than the door it serves. The maximum threshold height above the floor or landing must be ½-inch provided that thresholds more than ¼-inch above the adjacent floor must be beveled with a slope not steeper than 1 in 2.

(c) Handrails—(1) General. A minimum of one handrail meeting the requirements of this section must be installed on all stairways consisting of four or more risers. Handrails must be securely attached to structural framing members. A minimum space of 1½-inch must be provided between the adjoining wall surface and the handrail.

(2) Handrail height. Handrails must be installed between 34 inches and 38 inches measured vertically from the leading edge of the stairway treads except that handrails installed up to 42 inches high must be permitted if serving as the upper rails of guards required by paragraph (d) of this section.

(3) Continuity. Required handrails must be continuous from a point directly above the leading edge of the lowest stair tread to a point directly above the leading edge of the landing or floor surface at the top of the stairway. If the handrail is extended at the top of the stairway flight, the extension must parallel the floor or landing surface and must be at the same height as the handrail is above the leading edges of the treads. If the handrail is extended at the base of the stair, it must continue to slope parallel to the stair flight for a distance of one tread depth, measured horizontally, before being terminated or returned or extended horizontally. The ends of handrails must return into a wall or terminate in a safety terminal or newel post.

(4) Graspability. Required handrails must, if circular in cross section, have a minimum 1¼-inch and a maximum 2-inch diameter dimension. Handrails with a noncircular cross section must have a perimeter dimension of at least 4 inches and not more than 6¼ inches (with a maximum cross-section dimension of not more than 2¼ inches). The handgrip portion of the handrail must have a smooth surface. Edges must have a minimum ⅛-inch radius. Handrails must be continuously graspable along their entire length except that brackets or balusters are not considered obstructions to graspability if they do not project horizontally beyond the sides of the handrail within 1½ inches of the bottom of the handrail.

(5) Required resistance of handrails. Handrails must be designed to resist a load of 20 lb./ft applied in any direction at the top and to transfer this load through the supports to the structure. All handrails must be able to resist a single concentrated load of 200 lbs., applied in any direction at any point along the top, and have attachment devices and supporting structures to transfer this loading to appropriate structural elements of the building. This load is not required to be assumed to act concurrently with the loads specified in this section.

(d) Guards. (1) Porches, balconies, or raised floor surfaces located more than 30 inches above the floor or grade below must have guards not less than 36 inches in height. Open sides of stairs with a total rise of more than 30 inches above the floor or grade below must have guards not less than 34 inches in height measured vertically from the nosing of the treads. Balconies and porches on the second floor or higher must have guards a minimum of 42 inches in height.

(2) Required guards on open sides of stairways, raised floor areas, balconies, and porches must have intermediate rails or ornamental closures that do not allow passage of a sphere 4 inches in diameter. Required guards must not be constructed with horizontal rails or other ornamental pattern that result in a ladder effect.

(i) The triangular openings formed by the riser, tread and bottom rail of a guard at the open side of the stairway must be permitted to be of such a size that a sphere of 6 inches cannot pass through.

(ii) Guard systems must be designed to resist a load of 20 lb./ft applied in any direction at the top and to transfer this load through the supports to the structure. All guard systems must be able to resist a single concentrated load of 200 lb., applied in any direction at any point along the top and have attachment devices and supporting structures to transfer this loading to appropriate structural elements of the building. This load is required to be assumed to act concurrently with the loads specified in this section.

(e) Stairway illumination. All interior and exterior stairways must be provided with a means to illuminate the stairways, including the landings and treads.

(1) Interior stairways must be provided with an artificial light source located in the immediate vicinity of each landing of the stairway. For interior stairs, the artificial light sources must be capable of illuminating treads and landings to levels not less than one (1) foot-candle measured at the center of treads and landings. The control and activation of the required interior stairway lighting must be accessible at the top and bottom of each stairway without traversing any steps.

(2) Exterior stairways must be provided with an artificial light source located in the immediate vicinity of the top landing of the stairway. An artificial light source is not required at the top and bottom landing, provided an artificial light source is located directly over each stairway section. The illumination of exterior stairways must be controlled from inside the unit.

12. Add § 3280.211 to read as follows:

§ 3280.211 Carbon monoxide detector requirements.

(a) Carbon monoxide alarm(s) or detector(s) must be installed in each home containing either a fuel burning appliance or designed by the home manufacturer to include an attached garage. Carbon monoxide alarm(s) or detector(s) must be installed accordance with the NFPA 720, Standard for the Installation of Carbon Monoxide Detection Equipment, 2015 edition (incorporated by reference, see § 3280.4) and in accordance with the installation instructions that accompany the unit. Each carbon monoxide alarm(s) or detector(s) must be listed and conform to the requirements of Single and Multiple Station Carbon Monoxide Alarms, ANSI/UL 2034-2008 edition (incorporated by reference, see § 3280.4).

(b) For each home designed to be placed over a basement, the manufacturer must provide a carbon monoxide alarm or detector for the basement and must install the electrical junction box for the installation of this carbon monoxide alarm or detector for its interconnection to other alarm(s) or detector(s) required by this section.

(c) Each required carbon monoxide alarm or detector installed at the factory must be operationally tested, after conducting the dielectric test specified in § 3280.810(a), in accordance with the alarm manufacturer's instructions. A carbon monoxide alarm or detector that does not function as designed during the test and is not satisfactorily repaired so that it functions properly in the next retest must be replaced. Any replacement carbon monoxide alarm or detector must be successfully tested in accordance with this section.

13. Add § 3280.212 to read as follows:

§ 3280.212 Factory constructed or site-built attached garages.

(a) When a manufactured home is designed for factory construction with an attached garage or is designed for construction of an attached site-built garage, the manufacturer must design the manufactured home to accommodate all appropriate live and dead loads from the attached garage structure that will be transferred through the manufactured home structure to the home's support and anchoring systems.

(b) The design must specify the following home and garage characteristics including maximum width, maximum sidewall height, maximum roof slope, live and dead loads, and other design limitations or restrictions.

(c) When a manufactured home is factory constructed with an attached garage or is constructed for the attachment of a site-built garage, provisions must be made to provide fire separation between the garage and the manufactured home.

(1) The garage must be separated from the manufactured home and its attic by not less than Y2 inch gypsum board applied to the garage side of the manufactured home and the separation must be continuous from the bottom of the floor to the underside of the roof deck. Garages beneath habitable rooms must be separated from all habitable rooms by ⅝-inch, Type X gypsum board. Where the separation is a floor ceiling assembly, the structure supporting the separation must also be protected by not less than Y2 inch gypsum board or equivalent. The design approval and the manufacturer's installation instructions must include provision for equivalent vertical separation between the garage and the space below the manufactured home floor system.

(2) [Reserved]

(d) Openings from a garage directly into a room designated for sleeping purposes are not permitted.

(e) Other openings between the garage and the manufactured home must:

(1) Equipped with solid wood doors not less than 1⅜ inch in thickness, or solid or honeycomb steel doors not less than 1⅜ inch in thickness, or 20-minute fire-rated doors, and all doors shall be of the self-closing type; and

(2) Be in addition to the two exterior doors required by § 3280.105.

(f) Ducts penetrating the walls or ceilings separating the manufactured home from the garage must be constructed of a minimum No. 26 gauge steel or other approved material and must have no openings in the garage.

(g) Installation instructions shall be provided by the home manufacturer which identifies acceptable attachment locations, indicates design limitations for the attachment of the garage including acceptable live and dead loads for which the home has been designed to accommodate, and provide support and anchorage designs as necessary to transfer all imposed loads to the ground in accordance with §§ 3285.201 and 3285.401 of this chapter.

14. Add § 3280.213 to read as follows:

§ 3280.213 Factory constructed or site-built attached carports.

(a) When a manufactured home is designed for factory construction with an attached carport or is designed for construction of an attached site-built carport, the manufacturer must design the manufactured home to accommodate all appropriate live and dead loads from the attached carport structure that will be transferred through the manufactured home structure to the home's support and anchoring systems.

(b) The design must specify the following home and carport characteristics including maximum width, maximum sidewall height, maximum roof slope, live and dead loads, and other design limitations or restrictions.

(c) Homes may be designed with a factory-installed host beam (i.e., ledger board) or specific roof truss rail for the attachment of the carport to the exterior wall of the home. The host beam (i.e., ledger board) must be designed to transmit the appropriate live and dead loads at the interface between the carport and the manufactured home. In cases where the carport is designed to be supported by the roof truss rails, the roof trusses must be designed to support the additional live and dead loads from the carport.

(1) All splices in the host beam (i.e., ledger board) shall occur over a stud or framing member designed for the splice. Each end of the host beam splice (i.e., ledger board) shall be securely fastened to the stud or framing (cripple) member or to blocking secured to the stud to allow for adequate fastening of each end of the splice.

(2) Any portion of the host beam (i.e., ledger board) and all fasteners exposed to the weather shall be protected in accordance with § 3280.307.

(d) For homes designed for Wind Zones II or III, when a shear wall occurs within the length of the carport on the carport side of the home, shear wall and uplift strapping shall be designed to transfer all imposed loads from the shear wall and carport.

(e) To ensure that the attachment of the carport does not interfere with roof or attic ventilation, the manufacturer must provide specific instructions to ensure continued compliance with the manufactured home roof or attic ventilation requirements in accordance with § 3280.504(d).

(f) Installation instructions shall be provided by the home manufacturer which identifies acceptable attachment locations, indicates design limitations for the attachment of the carport including acceptable live and dead loads for which the home has been designed to accommodate, and provide support and anchorage designs as necessary to transfer all imposed loads to the ground in accordance with §§ 3285.201 and 3285.401 of this chapter.

(1) The manufacturer must ensure that any anchoring system designs incorporating anchorage to resist combined shear wall and carport uplift loads are evaluated for adequacy to resist the combined loads, taking into consideration the limitations of the ground anchor test and certification and/or cone of influence.

(2) [Reserved]

15. Amend § 3280.305 as follows:

a. Revise paragraph (a);

b. Add a sentence at the end of paragraph (e)(1);

c. Revise paragraph (g)(6); and

d. Add paragraph (h)(5).

The revisions and additions read as follows:

§ 3280.305 Structural design requirements.

(a) General. Each manufactured home must be designed and constructed as a completely integrated structure capable of sustaining the design load requirements of this part and must be capable of transmitting these loads to stabilizing devices without exceeding the allowable stresses or deflections. Roof framing must be securely fastened to wall framing, walls to floor structure, and floor structure to chassis to secure and maintain continuity between the floor and chassis, so as to resist wind overturning, uplift, and sliding as imposed by design loads in this part. In multistory construction, each story must be securely fastened to the story above and/or below to provide continuity and resist design loads in this part. Uncompressed finished flooring greater than ⅛ inch in thickness must not extend beneath load-bearing walls that are fastened to the floor structure.

* * * * *

(e) * * *

(1) * * * In multistory construction, each story must be securely fastened to the story above and/or below to provide continuity and resist design loads in this section.

* * * * *

(g) * * *

(6) Bottom board material (with or without patches) must meet or exceed the level of 48 inch-pounds of puncture resistance as tested by the Beach Puncture Test in accordance with Standard Test Methods for Puncture and Stiffness of Paperboard, and Corrugated and Solid Fiberboard, ASTM D781-1968 (Reapproved 1973) (incorporated by reference, see § 3280.4). The material must be suitable for patches and the patch life must be equivalent to the material life. Patch installation instruction must be included in the manufactured home manufacturer's instructions. The bottom board material must be tight fitted against all penetrations.

(h) * * *

(5) Portions of roof assemblies, including, but not limited to, dormers, gables, crickets, hinged roof sections, connections between sections, sheathing, roof coverings, underlayments, flashings, and eaves and overhangs are permitted to be assembled and installed on site in accordance with 24 CFR part 3282, subpart M, provided that the requirements in paragraphs (h)(5)(i) through (v) of this section are met.

(i) Approved installation instructions must be provided that include requirements for the following items:

(A) Materials, installation, and structural connections complying with this section;

(B) Installation and fastening of sheathing and roof coverings;

(C) Installation of appliance vent systems in accordance with § 3280.710;

(D) Installation of plumbing vents as required by § 3280.611; and

(E) Installation of attic ventilation in accordance with § 3280.504(c).

(ii) The installation instructions specified in paragraph (h)(5)(i) of this section must include drawings, details, and instructions as necessary to assure that the on-site work complies with the approved design.

(iii) The installation instructions specified in paragraph (h)(5)(i) of this section must provide for inspection of the work at the installation site in stages that assure the inspection is performed before any work is concealed.

(iv) Listed trusses must be provided as required by the approved design and installation instructions.

(v) Temporary weather protection must be provided per § 3280.307(e).

* * * * *

16. In § 3280.307, add paragraph (e) to read as follows:

§ 3280.307 Resistance to elements and use.

* * * * *

(e) Multi-section and attached manufactured homes (see subpart K of this part) are not required to comply with the factory installation of weather-resistant exterior finishes for those areas left open for field connection of the sections provided the following conditions are satisfied:

(1) Temporary weather protection for exposed, unprotected construction is provided in accordance with methods to be included in the approved design.

(2) Methods for on-site completion and finishing of these elements are included in the approved design.

(3) Complete installation instructions for finishing these elements are provided.

17. In § 3280.504, add paragraph (a)(3) and paragraph (b) introductory text to read as follows:

§ 3280.504 Condensation control and installation of vapor retarders.

(a) * * *

(3) In multi-story manufactured homes, the ceiling vapor retarder is permitted to be omitted when the story directly above is part of the same manufactured home.

(b) Exterior walls. Exterior walls must be provided with a system or method to manage moisture and vapor accumulation with one of the elements in paragraphs (b)(1) through (4) of this section. For purposes the requirement in this paragraph (b), the mating wall of each attached manufactured home must be considered to be an exterior wall.

* * * * *

18. Amend § 3280.506 as follows:

a. Redesignate paragraphs (a), (b), and (c) as paragraphs (b), (c), and (d), respectively;

b. Designate the introductory text as paragraph (a);

c. In newly designated paragraph (a):

i. Remove “of this subpart;”

ii. Remove “figure 506” and add “figure 1 to this paragraph (a)” in its place; and

iii. Add a heading for the figure.

d. In newly redesignated paragraph (b):

i. Remove the heading;

ii. Add a comma between “ventilation” and “and;”

iii. Remove “below” and add “in the table to this paragraph (b)” in its place; and

iv. Add a heading for the table; and

e. Revise newly redesignated paragraph (c).

The additions read as follows:

§ 3280.506 Heat loss/heat gain.

* * * * *

(a) * * *

Figure 1 to Paragraph (a)

(b) * * *

Table 1 to Paragraph (b)

* * * * *

(c) To assure uniform heat transmission in manufactured homes, cavities in exterior walls, floors, and ceilings must be provided with thermal insulation. For insulation purposes, the mating wall of each single family attached manufactured home shall be considered an exterior wall (see subpart K of this part).

* * * * *

19. In § 3280.602, add alphabetically the definition for “Indirect waste receptor” to read as follows:

§ 3280.602 Definitions.

* * * * *

Indirect waste receptor means a receptor that receives a discharge pipe that is not directly connected to a receptor but maintains a suitable air gap from end of pipe to top of drain.

* * * * *

20. In § 3280.608, revise paragraph (b) to read as follows:

§ 3280.608 Hangars and supports.

* * * * *

(b) Piping supports. Piping must be secured at sufficiently close intervals to keep the pipe in alignment and carry the weight of the pipe and contents. Unless otherwise stated in the standards incorporated by reference for specific materials at § 3280.604(a), or unless specified by the pipe manufacturer, horizontal plastic drainage piping must be supported at intervals not to exceed 4 feet and horizontal plastic water piping must be supported at intervals not to exceed 3 feet. Vertical drainage and water piping must be supported at each story height.

* * * * *

21. In § 3280.609, revise paragraph (c)(1)(iii) and add paragraph (c)(1)(iv) to read as follows:

§ 3280.609 Water distribution systems.

* * * * *

(c) * * *

(1) * * *

(iii) Relief valves must be provided with full-sized drains, with cross sectional areas equivalent to that of the relief valve outlet. The outlet of a pressure relief valve, temperature relief valve, or combination thereof, must not be directly connected to the drainage system. The discharge from the relief valve must be piped full size separately to the outside of the manufactured home, other than underneath the home, or to an indirect waste receptor located inside the manufactured home. Drain lines must be of a material listed for hot water distribution and must drain fully by gravity, must not be trapped, and must not have their outlets threaded, and the end of the drain must be visible for inspection.

(iv) Relief valve piping designed to be located underneath the manufactured home is not required to be installed at the factory provided the manufacturer designs the system for site assembly and also provides all materials and components including piping, fittings, cement, supports, and instructions for proper site installation.

* * * * *

22. In § 3280.610, revise paragraph (c)(5) to read as follows:

§ 3280.610 Drainage systems.

* * * * *

(c) * * *

(5) Preassembly of drain lines. Section(s) of the drain system, designed to be located underneath the manufactured home or between stories of the manufactured home, are not required to be factory installed when the manufacturer designs the system for site assembly and also provides all materials and components, including piping, fittings, cement, supports, and instructions necessary for proper site installation.

* * * * *

23. Amend § 3280.611 as follows:

a. Remove the comma at the end of paragraph (c)(1)(i) and add a semicolon in its place; and

b. Revise paragraph (c)(1)(ii).

The revision reads as follows:

§ 3280.611 Vents and venting.

* * * * *

(c) * * *

(1) * * *

(ii) A 1½-inch diameter (min.) continuous vent or equivalent, indirectly connected to the toilet drain piping within the distance allowed in paragraph (c)(5) of this section for 3 inch trap arms through a 2-inch wet vented drain that carries the waste of not more than one fixture. Sections of the wet vented drain that are 3 inches in diameter are permitted to carry the waste of an unlimited number of fixtures; or

* * * * *

24. In § 3280.612, revise paragraph (a) to read as follows:

§ 3280.612 Tests and inspection.

(a) Water system. All water piping in the water distribution system must be subjected to a pressure test. The test must be made by subjecting the system to air or water at 80 psi + or −5 psi for 15 minutes without loss of pressure. The water used for the test must be obtained from a potable source of supply.

* * * * *

25. Amend § 3280.705 as follows:

a. Revise paragraph (c)(1);

b. In paragraph (j), remove “shall” and add in its place “must” wherever it appears;

c. Revise paragraphs (k), (l)(7), and (l)(8)(i); and

d. Add paragraph (l)(8)(iii).

The revisions and addition to read as follows:

§ 3280.705 Gas piping systems.

* * * * *

(c) * * *

(1) All points of crossover beneath the transportable sections must be readily accessible from the exterior of the home. In multi-story manufactured homes, the interconnections between stories must be accessible through a panel on the exterior or interior of the manufactured home.

* * * * *

(k) Identification of gas supply connections. Each manufactured home must have permanently affixed to the exterior skin at or near each gas supply connection or the end of the pipe, a tag of 3 inches by 1¾ inches minimum size, made of etched, metal-stamped or embossed brass, stainless steel, anodized or alcalde aluminum not less than 0.020 inch thick, or other approved material [e.g., 0.005 inch plastic laminates], with the information shown in Figure 1 to this paragraph (k). The connector capacity indicated on this tag must be equal to or greater than the total Btuh rating of all intended gas appliances.

(l) * * *

(7) Hangers and supports. All horizontal gas piping must be adequately supported by galvanized or equivalently protected metal straps or hangers at intervals of not more than 4 feet, except where adequate support and protection is provided by structural members. Vertical gas piping in multi-story dwelling units must be supported at intervals of not more than 6 feet. Solid iron-pipe connection(s) must be rigidly anchored to a structural member within 6 inches of the supply connection(s).

(8) * * *

(i) Before appliances are connected, piping systems must stand a pressure of three ±0.2 psi gauge for a period of not less than ten minutes without showing any drop in pressure. Pressure must be measured with a mercury manometer or slope gauge calibrated so as to be read in increments of not greater than one-tenth pound, or an equivalent device. The source of normal operating pressure must be isolated before the pressure tests are made. Before a test is begun, the temperature of the ambient air and of the piping must be approximately the same, and constant air temperature must be maintained throughout the test.

* * * * *

(iii) Where gas piping between transportable sections must be made by means of hard pipe installed on site, the installation instructions must contain provisions for onsite testing for leakage consistent with the provisions in paragraph (l)(8)(i) of this section.

26. In § 3280.708, revise paragraph (a)(1) introductory text to read as follows:

§ 3280.708 Exhaust duct system and provisions for the future installation of a clothes dryer.

(a) * * *

(1) All gas and electric clothes dryers must be exhausted to the outside by a moisture/lint exhaust duct and termination fitting. When the manufacturer supplies the clothes dryer, the exhaust duct and termination fittings must be completely installed by the manufacturer. If the exhaust duct system is subject to damage during transportation, or a field connection between transportable sections is required, complete factory installation of the exhaust duct system is not required when the following apply:

* * * * *

27. In § 3280.709, revise paragraph (a) to read as follows:

§ 3280.709 Installation of appliances.

(a) The installation of each appliance must conform to the terms of its listing and the manufacturer's instructions. The manufactured home manufacturer must leave the appliance manufacturer's instructions attached to the appliance. Every appliance must be secured in place to avoid displacement. For the purpose of servicing and replacement, each appliance must be both accessible and removable.

(1) A direct vent space heating appliance is permitted to be shipped loose for on-site installation in a basement provided the following:

(i) The heating appliance is listed for the installation.

(ii) Approved installation instructions are provided that include requirements for completion of all gas and electrical connections and provide for inspection and/or testing of all connections.

(iii) Approved instructions are provided to assure connection of the vent and combustion air systems in accordance with § 3280.710(b), and to provide for inspection of the systems for compliance.

(iv) Approved installation and inspection procedures are provided for the connection of the site-installed heating appliance to the factory-installed circulation air system and return air systems.

(2) The procedures must include revisions to assure compliance of the installed systems with § 3280.715.

* * * * *

28. In § 3280.710, revise paragraph (d) to read as follows:

§ 3280.710 Venting, ventilation and combustion air.

* * * * *

(d) Venting systems must terminate at least three feet above any motor-driven air intake discharging into habitable areas when located within ten feet of the air intake.

* * * * *

29. In § 3280.802, redesignate paragraphs (a)(4) through (41) as paragraphs (a)(5) through (42) and add new paragraph (a)(4) and reserved paragraph (b) to read as follows:

§ 3280.802 Definitions.

* * * * *

(a) * * *

(4) Attached accessory building or structure means any awning, cabana, deck, ramada, storage cabinet, carport, fence, windbreak, garage, or porch for which the attachment of such is designed by the home manufacturer to be structurally supported by the basic manufactured home.

* * * * *

30. In § 3280.807, add paragraph (g) to read as follows:

§ 3280.807 Fixtures and appliances.

* * * * *

(g) In bathrooms, ceiling-mounted lighting fixtures and wall-mounted lighting fixtures must not be controlled by the same switch.

31. In § 3280.810, revise paragraph (b) to read as follows:

§ 3280.810 Electrical testing.

* * * * *

(b) Additional testing. Each manufactured home must be subjected to the following tests:

(1) An electrical continuity test to assure that metallic parts are effectively bonded;

(2) An operational test of all devices and utilization equipment, except water heaters, electric ranges, electric furnaces, dishwashers, clothes washers/dryers, and portable appliances, to demonstrate they are connected and in working order; and

(3) Electrical polarity checks to determine that connections have been made in accordance with applicable provisions of these standards and Article 550.17 of the National Electric Code, NFPA No. 70-2005 (incorporated by reference, see § 3280.4). Visual verification is an acceptable electrical polarity check.

§ 3280.902 [Amended]

32. In § 3280.902(b), remove “A frame” and add in its place “rigid substructure”.

33. Revise § 3280.903 to read as follows:

§ 3280.903 General requirements for designing the structure to withstand transportation shock and vibration.

(a) General. The manufactured home and its transportation system (as defined in § 3280.902(f)) must withstand the effects of highway movement such that the home is capable of being transported safely and installed as a habitable structure. Structural, plumbing, mechanical, and electrical systems must be designed to function after set-up. The home must remain weather protected during the transportation sequence to prevent internal damage.

(b) Testing or analysis requirements. Suitability of the transportation system and home structure to withstand the effects of transportation must be permitted to be determined by testing, or engineering analysis, or a combination of the two as required by paragraphs (b)(1) and (2) of this section.

(1) Road tests. Tests must be witnessed by an independent registered professional engineer or architect, or by a recognized testing organization. Such testing procedures must be part of the manufacturer's approved design.

(2) Engineering analysis. Engineering analysis methods based on the principles of mechanics and/or structural engineering may be used to substantiate the adequacy of the transportation system to withstand in-transit loading conditions. As transportation loadings are typically critical in the longitudinal direction, analysis should, in particular, provide emphasis on design of longitudinal structural components of the manufactured home (e.g. main chassis girder beams, sidewalls, and rim joists, etc.). Notwithstanding, all structural elements necessary to the structural integrity of the manufactured home during in-transit loading are also to be evaluated (e.g. transverse chassis members and floor framing members, etc.).

(i)(A) The summation of the design loads in paragraphs (b)(2)(i)(A)(1) through (3) of this section may be used to determine the adequacy of the chassis in conjunction with the manufactured home structure to resist in-transit loading:

(1) Dead load, the vertical load due to the weight of all structural and non-structural components of the manufactured home at the time of shipment.

(2) Floor load, a minimum of 3 pounds per square foot.

(3) Dynamic loading factor, (0.25)[(A) + (B)].

(B) However, the in-transit design loading need not exceed twice the dead load of the manufactured home.

(ii) To determine the adequacy of individual longitudinal structural components to resist the in-transit design loading, a load distribution based on the relative flexural rigidity and shear stiffness of each component may be utilized. For the purpose of loading distribution, the sidewall may be considered to be acting as a “deep beam” in conjunction with other load carrying elements in determining the relative stiffness of the integrated structure. Further, by proper pre-cambering of the chassis assembly, additional loading may be distributed to the chassis, and the remaining loading may be distributed to each of the load carrying members by the relative stiffness principle.

(iii) The analysis is also to include consideration for:

(A) Location of openings in the sidewall during transport and, when appropriate, provisions for reinforcement of the structure and/or chassis at the opening.

(B) Sidewall component member sizing and joint-splice analysis (i.e. top and bottom plates, etc.), and connections between load carrying elements.

34. In § 3280.904, revise paragraphs (a), (b)(1) through (6) and (8) through (10) to read as follows:

§ 3280.904 Specific requirements for designing the transportations system.

(a) General. The transportation system must be designed and constructed as an integrated unit which is safe and suitable for its specified use. In operation, the transportation system must effectively respond to the control of the towing vehicle tracking and braking, while traveling at applicable highway speeds and in normal highway traffic conditions.

(b) Specific requirements—(1) Drawbar. The drawbar must be constructed of sufficient strength, rigidity, and durability to safely withstand those dynamic forces experienced during highway transportation. It must be securely fastened to the manufactured home substructure.

(2) Coupling mechanism. The coupling mechanism (which is usually of the socket type) must be securely fastened to the drawbar in such a manner as to assure safe and effective transfer of the maximum loads, including dynamic loads, between the manufactured home structure and the hitch-assembly of the towing vehicle. The coupling must be equipped with a manually operated mechanism so adapted as to prevent disengagement of the unit while in operation. The coupling must be so designed that it can be disconnected regardless of the angle of the manufactured home to the towing vehicle.

(3) Chassis. The chassis, in conjunction with the manufactured home structure, must be constructed to effectively sustain the design loads. The integrated structure must be capable of ensuring the integrity of the complete manufactured home and to insure against excessive deformation of structural or finish members.

(4) Running gear assembly—(i) Design criteria. The design load used to size running gear components must be the gross dead weight minus the static tongue weight supported by the drawbar. Running gear must be designed to accept shock and vibration, both from the highway and the towing vehicle and effectively dampen these forces so as to protect the manufactured home structure from damage and fatigue. Its components must be designed to facilitate routine maintenance, inspection, and replacement.

(ii) Location. Location of the running gear assembly must be determined by documented engineering analysis, taking into account the gross weight (including all contents), total length of the manufactured home, the necessary coupling hitch weight, span distance, and turning radius. The coupling weight must be not less than 12 percent nor more than 25 percent of the gross weight.

(5) Spring assemblies. Spring assemblies (springs, hangers, shackles, bushings, and mounting bolts) must be capable of supporting the running gear design loads, without exceeding maximum allowable stresses for design spring assembly life as recommended by the spring assembly manufacturer. The capacity of the spring system must assure, that under maximum operating load conditions, sufficient clearance is maintained between the tire and manufactured home's frame or structure to permit unimpeded wheel movement and for changing tires.

(6) Axles. Axles, and their connecting hardware, must be capable of supporting the running gear design loads, without exceeding maximum allowable design axle loads as recommended by the axle manufacturer. The number and load capacity necessary to provide a safe tow must not be less than those required to support the design load.

(i) Recycled axles. Before reuse, all axles, including all component parts, must be reconditioned as required pursuant to a program accepted by a nationally recognized testing agency. The recycling program must be approved and the axles must be labeled by a nationally recognized testing agency. Recycled axles and their components must utilize compatible components and be of the same size and rating as the original equipment.

(ii) [Reserved]

* * * * *

(8) Tires, wheels, and rims. Tires, wheels, and rims must be selected, sized, and fitted to axles so that static dead load supported by the running gear does not exceed the load capacity of the tires. Tires must not be loaded beyond the load rating marked on the sidewall of the tire or, in the absence of such a marking, the load rating specified in any of the publications of any of the organizations listed in Federal Motor Vehicle Safety Standard (FMVSS) No. 119 in 49 CFR 571.119, S5.1(b). Wheels and rims must be sized in accordance with the tire manufacturer's recommendations as suitable for use with the tires selected.

(i) Inflation pressure. The load and cold inflation pressure imposed on the rim or wheel must not exceed the rim and wheel manufacturer's instructions even if the tire has been approved for a higher load or inflation. Tire cold inflation pressure limitations and the inflation pressure measurement correction for heat must be as specified in 49 CFR 393.75(h).

(ii) Used tires. Whenever the tread depth is at least 1/16 inch as determined by a tread wear indicator, used tires are permitted to be sized in accordance with 49 CFR 571.119. The determination as to whether a used tire is acceptable must also include a visual inspection for thermal and structural defects (e.g., dry rotting, excessive tire sidewall splitting, etc.). Used tires with such structural defects must not be installed on manufactured homes.

(9) Brake assemblies—(i) Braking axles. The number, type, size, and design of brake assemblies required to assist the towing vehicle in providing effective control and stopping of the manufactured home must be determined and documented by engineering analysis. Those alternatives listed in § 3280.903(c) may be accepted in place of such an analysis. Unless substantiated in the design to the satisfaction of the approval agency by either engineering analysis in accordance with § 3280.903(a)(1) or tests in accordance with paragraph (b)(9)(ii) of this section, there must be a minimum of two axles equipped with brake assemblies on each manufactured home transportable section.

(ii) Stopping distance. Brakes on the towing vehicle and the manufactured home (a drive-away/tow-away) must be capable of assuring that the maximum stopping distance from an initial speed of 20 miles per hour does not exceed 35 feet in accordance with U.S. Department of Transportation regulations.

(iii) Electrical brake wiring. Brake wiring must be installed to provide sufficient operating voltage for each brake. The voltage available at the brakes must not be less than the value specified in the brake manufacturer's instructions. Aluminum wire, when used, must be provided with suitable termination that is protected against corrosion.

(10) Lamps and associated wiring. Stop lamps, turn signal/lamps, and associated wiring must meet the appropriate sections of FMVSS No. 108 in 49 CFR 571.108, which specify the performance and location of these lamps and their wiring. The manufacturer may meet these requirements by utilizing a temporary light/wiring harness, which has components that meet the FMVSS No. 108. The temporary harness is permitted to be provided by the manufactured home transportation carrier.

35. Add subpart K to read as follows:

Subpart K—Attached Manufactured Homes and Special Construction Considerations

Sec.
3280.1001 Scope.
3280.1002 Definitions.
3280.1003 Attached manufactured home unit separation.
3280.1004 Exterior walls.
3280.1005 Electrical service.
3280.1006 Water service.

§ 3280.1001 Scope.

This subpart covers the requirements for attached manufactured homes and other related construction associated with manufactured homes not addressed elsewhere within this part.

§ 3280.1002 Definitions.

The following definitions are applicable to this subpart only

Attached manufactured home. Two or more adjacent manufactured homes that are structurally independent from foundation to roof and with open space on at least two sides, but which have the appearance of a physical connection (i.e. zero lot line).

Fire separation wall. A wall of an attached manufactured home which is structurally independent of a wall of another attached manufactured home with a fire separation distance of less than three feet.

§ 3280.1003 Attached manufactured home unit separation.

(a) Separation requirements. Attached manufactured homes must be separated from each other by a fire separation wall of not less than 1-hour fire-resistive rating with exposure from both sides on each attached manufactured home unit when rated based on tests in accordance with ASTM E119-2005, Standard Test Method for Fire Tests of Building Construction and Materials (incorporated by reference, see § 3280.4). Fire resistance rated fire separation wall assemblies must extend from the foundation to the underside of the roof sheathing.

(b) Fire separation penetrations. (1) Fire rated fire separation walls must not contain through penetrations or openings.

(2) Membrane penetrations for electrical boxes are permitted under the following conditions:

(i) Steel electrical boxes not exceeding 16 square inches may be installed provided that the total area of such boxes does not exceed 100 square inches. Steel electrical boxes in adjacent fire separation walls must be separated by a horizontal distance of not less than 24 inches.

(ii) Listed 2-hour fire-resistant nonmetallic electrical boxes are installed in accordance with the listings.

(iii) No other membrane penetrations are allowed.

(c) Continuity of walls. The fire separation walls for single-family attached dwelling units must be continuous from the foundation to the underside of the roof sheathing, deck, or slab and must extend the full length of the fire separation walls.

(d) Parapets. (1) Parapets constructed in accordance with paragraph (d)(2) of this section must be provided for attached manufactured homes as an extension of fire separation walls in accordance with the following:

(i) Where roof surfaces adjacent to the fire separation walls are at the same elevation, the parapet must extend not less than 30 inches above the roof surfaces.

(ii) Where roof surfaces adjacent to the wall or walls are at different elevations and the higher roof is not more than 30 inches above the lower roof surface, the parapet must not extend less than 30 inches above the lower roof surface.

(A) Parapets must be provided unless roofs are of a Class C roof covering and the roof decking or sheathing is of noncombustible materials or approved fire-retardant-treated wood for a distance of four feet on each side of the common fire separation walls; or one layer of ⅝ inch Type X gypsum board is installed directly beneath the roof decking or sheathing for a distance of four feet on each side of the fire separation walls.

(B) A parapet must not be required where roof surfaces adjacent to the common walls are at different elevations and the higher roof is more than 30 inches above the lower roof. The fire separation wall construction from the lower roof to the underside of the higher roof deck must not have less than a 1-hour fire-resistive rating. The wall must be rated for exposure from both sides.

(2) Parapets must have the same fire resistance rating as that required for the supporting wall or walls. On any side adjacent to a roof surface, the parapet must have noncombustible faces for the uppermost 18 inches, to include counter flashing and coping materials. Where the roof slopes toward a parapet at slopes greater than 2/12 (16.7 percent slope), the parapet must extend to the same height as any portion of the roof within a distance of three feet, but in no case will the height be less than 30 inches.

§ 3280.1004 Exterior walls.

(a) The requirements of § 3280.504 for condensation control and vapor retarder installation are required to be provided on each fire separation wall of each attached manufactured home.

(b) The requirements of § 3280.506 for heat loss/gain insulation apply to the fire separation wall on each attached manufactured home.

§ 3280.1005 Electrical service.

(a) Each attached manufactured home must be supplied by only one service.

(b) Service conductors supplying one manufactured home must not pass through the interior of another manufactured home.

§ 3280.1006 Water service.

(a) Each manufactured home must have an individual water supply that will service only that unit.

(b) Each manufactured home must have a hot water supply system that will service only that unit.

PART 3282—MANUFACTURED HOME PROCEDURAL AND ENFORCEMENT REGULATIONS

36. The authority citation for part 3282 is revised to read as follows:

Authority: 28 U.S.C. 2461 note; 42 U.S.C. 3535(d); 42 U.S.C. 5424.

37. In § 3282.7, redesignate paragraphs (d) through (nn) as (e) through (oo) and add new paragraph (d) to read as follows:

§ 3282.7 Definitions.

* * * * *

(d) Attached accessory building or structure means any awning, cabana, deck, ramada, storage cabinet, carport, fence, windbreak, garage, or porch for which the attachment of such is designed by the home manufacturer to be structurally supported by the basic manufactured home.

* * * * *

38. In § 3282.8, revise paragraph (j) to read as follows:

§ 3282.8 Applicability.

* * * * *

(j) Add-on. An add-on including an attached accessory building or structure added by the retailer or some party other than the manufacturer (except where the manufacturer acts as a retailer) as part of a simultaneous transaction involving the sale of a new manufactured home, is not governed by the standards and is not subject to the regulations in this part except as identified in this section and part 3280 of this chapter. The addition of any add-on or attached accessory building or structure must not affect the ability of the basic manufactured home to comply with the standards. If the addition of an add-on or attached accessory building or structure causes the basic manufactured home to fail to conform to the standards, then sale, lease, and offer for sale or lease of the home are prohibited until the manufactured home is brought into conformance with the standards.

(1) Add-ons including an attached accessory building or structure must be structurally independent. Attachment is for weatherproofing and cosmetic purposes only.

(2) If an attached accessory building or structure is not structurally independent all the following must be met for attachment to the manufactured home:

(i) Manufactured home must be designed and constructed to accommodate all imposed loads, including any loads imposed on the home by the attached accessory building or structure, in accordance with part 3280 of this chapter.

(ii) Data plate must indicate that home has been designed to accommodate the additional loads imposed by the attachment of the attached accessory buildings or structures and must identify the design loads.

(iii) Installation instructions shall be provided by the home manufacturer which identifies acceptable attachment locations, indicates design limitations for the attached accessory building or structure including acceptable live and dead loads for which the home has been designed to accommodate and provide support and anchorage designs as necessary to transfer all imposed loads to the ground in accordance with part 3285 of this chapter.

* * * * *

39. In § 3282.14, revise paragraph (a) introductory text to read as follows:

§ 3282.14 Alternative construction of manufactured homes.

(a) Policy. In order to promote the purposes of the Act, the Department will permit the sale or lease of one or more manufactured homes not in compliance with the standards under circumstances wherein no affirmative action is needed to protect the public interest. An add-on, including an attached accessory building or structure which does not affect the performance and ability of the basic manufactured home to comply with the standards in accordance with § 3282.8(j), is not governed by this section. The Department encourages innovation and the use of new technology in manufactured homes. Accordingly, HUD will permit manufacturers to utilize new designs or techniques not in compliance with the standards in cases:

* * * * *

40. In § 3282.601, add paragraph (c) to read as follows:

§ 3282.601 Purpose and applicability.

* * * * *

(c) Exception. An add-on or attached accessory building or structure which does not affect the performance and ability of the basic manufactured home to comply with the standards in accordance with § 3282.8(j) is not governed by this section.

41. In § 3282.602, revise paragraph (a)(2) to read as follows:

§ 3282.602 Construction qualifying for on-site completion.

(a) * * *

(2) Any work required by the home design that cannot be completed in the factory, or when the manufacturer authorizes the retailer to provide an add-on to the home during installation, when that work would take the home out of conformance with the construction and safety standards and then bring it back into conformance;

* * * * *

PART 3285—MODEL MANUFACTURED HOME INSTALLATION STANDARDS

42. The authority citation for part 3285 continues to read as follows:

Authority: 42 U.S.C. 3535(d), 5403, 5404, and 5424.

43. In § 3285.5, add alphabetically the definition for “Attached accessory building or structure” to read as follows:

§ 3285.5 Definitions.

* * * * *

Attached accessory building or structure means any awning, cabana, deck, ramada, storage cabinet, carport, fence, windbreak, garage, or porch for which attachment of such is designed by the home manufacturer to be structurally supported by the basic manufactured home.

* * * * *

44. In § 3285.903, revise paragraph (c) to read as follows:

§ 3285.903 Permits, alterations, and on-site structures.

* * * * *

(c) Installation of an add-on or attached accessory building or structure. Each attached accessory building or structure or add-on is designed to support all of its own live and dead loads, unless the attached accessory building or structure is otherwise included in the installation instructions or designed by a registered professional engineer or registered architect in accordance with this part.

Dated: January 23, 2020.
Brian D. Montgomery,
Assistant Secretary for Housing—Federal Housing Commissioner.

[FR Doc. 2020-01473 Filed 1-30-20; 8:45 am]

BILLING CODE 4210-67-P